DEPARTMENT OF EDUCATION

[Docket ID ED-2023-OPE-0207]

Request for Information on Sexual Violence at Educational Institutions

AGENCY: Office of Postsecondary Education and Office of Elementary and Secondary Education, U.S. Department of Education.

ACTION: Request for information.

SUMMARY: This notice is a request for information in the form of written comments that include information, research, and suggestions regarding the prevention and response to sexual violence on campuses of educational institutions.

DATES: We must receive your comments by March 11, 2024.

ADDRESSES: Comments must be submitted via the Federal eRulemaking Portal at regulations.gov. However, if you require an accommodation or cannot otherwise submit your comments via regulations.gov, please contact the program contact person listed under FOR FURTHER INFORMATION CONTACT. The Department will not accept comments by email or by fax. To ensure that the Department does not receive duplicate copies, please submit your comments only once. Additionally, please include the Docket ID at the top of your comments.

Federal eRulemaking Portal: Go to www.regulations.gov to submit your comments electronically. Information on using Regulations.gov, including instructions for accessing agency documents, submitting comments, and viewing the docket, is available on the site under the “FAQ” tab.

Privacy Note: The Department's policy for comments received from members of the public is to make these submissions available for public viewing in their entirety on the Federal eRulemaking Portal at www.regulations.gov. Therefore, commenters should be careful to include in their comments only information that they wish to make publicly available. We encourage, but do not require, that each respondent include their name, title, institution or affiliation, and the name, title, mailing and email addresses, and telephone number of a contact person for the institution or affiliation, if any.

FOR FURTHER INFORMATION CONTACT: Amanda Miller. Telephone: (202) 453-6914. You may also email your questions to Amanda.Miller@ed.gov, but as described above, comments must be submitted via the Federal eRulemaking Portal at regulations.gov.

If you are deaf, hard of hearing, or have a speech disability and wish to access telecommunications relay services, please dial 7-1-1.

SUPPLEMENTARY INFORMATION:

Background: Section 1314 of the Violence Against Women Act (VAWA) Reauthorization Act of 2022, Public Law 117-103, div. W, 136 Stat. 840, 936-38 (2022), requires the Secretary of Education, the Secretary of Health and Human Services, and the Attorney General to establish a joint interagency task force to be known as the “Task Force on Sexual Violence in Education” (hereinafter the Task Force) to provide information and recommendations, solicit information from relevant stakeholders, and create a plan to address sexual violence in education. The Biden-Harris Administration remains committed to preventing and responding to gender-based violence, including sexual violence in education, wherever it occurs and in all of its forms.

Specifically, the Task Force is to provide recommendations to educational institutions on: establishing prevention and response teams; providing survivor resources, including health care, sexual assault kits, sexual assault nurse examiners, culturally responsive and inclusive standards of care, trauma-informed services, and access to confidential advocacy and support services; best practices on responses to and prevention of sexual violence and dating violence; sex education, as appropriate, training for school staff and various equitable discipline models; and culturally responsive and inclusive approaches to supporting survivors. The law defines “educational institution” as “an institution of higher education, an elementary school, or a secondary school.”

The VAWA Reauthorization Act also directs the Task Force to solicit periodic input from a diverse group of survivors, trauma specialists, advocates from national, State, and local anti-sexual violence advocacy organizations, institutions of higher education, and other public stakeholders. The goal of this request for information is to ensure the Task Force is receiving feedback and input from a diverse group of stakeholders.

Solicitation of Comments: When responding to this RFI, please address one or more of the following questions. Please note if your responses refer to elementary, secondary, or postsecondary educational settings, or more than one.

(1) What factors and best practices should educational institutions consider when establishing sexual assault prevention and response teams, including for online threats, harassment and intimidation, and other forms of technological abuse?

(2) How can educational institutions best provide survivor resources, including health care, sexual assault kits, sexual assault nurse examiners, culturally responsive and linguistically inclusive standards of care, trauma-informed services, academic supports, and access to confidential advocacy and support services?

(3) What best practices should educational institutions consider for responding to and preventing sexual violence and dating violence on their campuses, including the online environment, and which may take into consideration an institution's educational level, size, and resources?

(4) What factors should be considered as educational institutions develop or implement sex education programs, as appropriate, for students, training initiatives for school staff in sexual violence prevention, and equitably designed and applied discipline models?

(5) What are culturally responsive and linguistically inclusive approaches to supporting survivors, which include consideration of race; ethnicity; national origin; limited English proficiency; religion; immigration status; lesbian, gay, bisexual, transgender; queer or intersex (LGBTQI+) status; ability; disability; socio-economic status; exposure to trauma, and other compounding factors?

(6) What are promising practices for engaging student groups, community organizations or families of students in efforts to prevent and address sexual violence and dating violence?

(7) In what ways can the Federal Government support educational institutions in improving the prevention of, and response to, sexual violence and dating violence, including online threats, harassment and intimidation, and other forms of technological abuse?

If you are aware of any supportive research (qualitative or quantitative) or promising practices, please include citations, websites, or other information that will enable the Task Force to learn more.

This is a request for information only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI. The documents and information submitted in response to this RFI become the property of the U.S. Government and will not be returned.

Accessible Format: By request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser Paydar,
Assistant Secretary, Office of Postsecondary Education.
Adam Schott,
Deputy Assistant Secretary for Policy and Programs, Delegated the Authority to Perform the Functions and Duties of the Assistant Secretary, Office of Elementary and Secondary Education.

[FR Doc. 2024-01323 Filed 1-23-24; 8:45 am]

BILLING CODE 4000-01-P